DEPARTMENT OF STATE

[Public Notice: 11883]

60-Day Notice of Proposed Information Collection: Local U.S. Citizen Skills/Resources Survey

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 12, 2022.

ADDRESSES: You may submit comments by any of the following methods:

• Web: Persons with access to the internet may comment on this notice by going to www.Regulations.gov. You can search for the document by entering “Docket Number: DOS-2022-0037” in the Search field. Then click the “Comment Now” button and complete the comment form.

• Email: OliphantCE@state.gov.

• Regular Mail: U.S. Department of State, CA/OCS/MSU, SA-17, 10th Floor, Washington, DC 20522-1710.

You must include the DS form number (if applicable), information collection title, and the OMB control number in any correspondence.

SUPPLEMENTARY INFORMATION:

• Title of Information Collection: Local U.S. Citizen Skills/Resources Survey.

• OMB Control Number: 1405-0188.

• Type of Request: Revision of a currently approved collection.

• Originating Office: Bureau of Consular Affairs, Overseas Citizens Services (CA/OCS).

• Form Number: DS-5506.

• Respondents: United States Citizens.

• Estimated Number of Respondents: 2,400.

• Estimated Number of Responses: 2,400.

• Average Time per Response: 15 minutes.

• Total Estimated Burden Time: 600 hours.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Local U.S. Citizen Skills/Resources Survey is a systematic method of gathering information about skills and resources from U.S. citizens that will assist in improving the well-being of other U.S. citizens affected or potentially affected by a crisis.

Methodology

This information collection can be completed by the respondent electronically or manually. The information will be collected on-site at a U.S. Embassy/Consulate, by mail, fax, or email.

Kevin E. Bryant,
Deputy Director, Office of Directives Management, Department of State.

[FR Doc. 2022-22208 Filed 10-12-22; 8:45 am]

BILLING CODE 4710-06-P